DEPARTMENT OF TRANSPORTATION

Federal Highway Administration

Environmental Impact Statement: El Paso County, TX

AGENCY: Federal Highway Administration (FHWA), DOT.

ACTION: Rescind Notice of Intent (NOI) to prepare an EIS.

SUMMARY: FHWA is issuing this notice to advise the public that the NOI to prepare an environmental impact statement (EIS) for proposed improvements to Loop 375 Border Highway West, in El Paso County, Texas, is being rescinded.

FOR FURTHER INFORMATION CONTACT: Gregory S. Punske, P.E., District Engineer, Federal Highway Administration, Texas Division, 300 East 8th Street, Room 826, Austin, Texas 78701, Telephone (512) 536-5960.

SUPPLEMENTARY INFORMATION: In September 2007, the Texas Department of Transportation (TxDOT) and FHWA announced their intent to prepare an EIS pursuant to 40 CFR 1508.22 and 43 TAC Sec. 2.5(e)(2) for the proposed Loop 375 César Chávez Highway (Border Highway West Extension) in El Paso, Texas, to include the Texas, New Mexico, and Ciudad Juárez, Chihuahua México border region. The proposed Border Highway West Extension project limits extended approximately 13.8 miles to provide a continuous route from Interstate 10 (I-10) east of State Highway (SH) 20 (Mesa Street) to Sunland Park Drive and continued on Loop 375 to end at United States Highway (US) 54. The proposed project was part of an alternate route to provide congestion relief for I-10, an east-west facility north of the project. The Loop 375 Border Highway West Extension Project was originally included in the Gateway 2030 Metropolitan Transportation Plan (MTP); and is currently included in the current Mission 2035 MTP, a transportation program adopted by the El Paso Metropolitan Planning Organization (MPO) in August of 2010 and approved for air conformity on January 28, 2011.

The EIS was in the preliminary stages of development. Two scoping meetings were held for cooperating and participating agencies on October 23, 2007 and October 30, 2007 at the El Paso International Airport Board Room, 6701 Convair Road, El Paso, Texas. In addition, two public scoping meetings were held on these same dates at Hilos de Plata Senior Center and the Westside Regional Command Center, El Paso, Texas.

FHWA and TxDOT have decided to rescind the Notice of Intent because the Texas Department of Transportation will be using State funding for the delivery of the project. A project containing no Federal funds or Federal actions is not required to complete NEPA project approvals. Further, the project will be broken into several phases or projects, all to be funded with State funds and all to have logical termini and independent utility. Consequently, the previously proposed project will undergo several environmental evaluations under a State environmental process. Comments or questions concerning the rescission of this proposed action and the EIS should be directed to the FHWA at the address provided above.

Gregory S. Punske,
District Engineer, Austin, Texas.

[FR Doc. 2011-25364 Filed 9-30-11; 8:45 am]

BILLING CODE 4910-22-P